DEPARTMENT OF HEALTH AND HUMAN SERVICES

Administration for Community Living

Agency Information Collection Activities; Submission for OMB Review; Comment Request; OAA Title III-C Evaluation

AGENCY: Administration for Community Living, HHS.

ACTION: Notice.

SUMMARY: The Administration for Community Living (formerly the Administration on Aging (AoA)) is announcing that the proposed collection of information listed below has been submitted to the Office of Management and Budget (OMB) for review and clearance under the Paperwork Reduction Act of 1995.

DATES: Submit written comments on the collection of information by June 13, 2013.

ADDRESSES: Submit written comments on the collection of information by fax 202.395.5806 or by email to OIRA_submission@omb.eop.gov, Attn: OMB Desk Officer for ACL.

FOR FURTHER INFORMATION CONTACT: Susan Jenkins, 202.357.3591

SUPPLEMENTARY INFORMATION: In compliance with 44 U.S.C. 3507, the Administration for Community Living (Formerly the Administration for Aging) has submitted the following proposed collection of information to OMB for review and clearance. The data collection associated with the Evaluation of the Elderly Nutrition Services Program (ENSP) is necessary to meet three broad objectives of ACL: (1) To provide information to support program planning, including an analysis of program processes, (2) to develop information about program efficiency and cost issues, and (3) to assess program effectiveness, as measured by the program's effects on a variety of important outcomes, including nutrient adequacy, socialization opportunities, health outcomes, and, ultimately, helping elderly people avoid institutionalization.

In response to the 60-day Federal Register notice related to this proposed data collection and published on April 5, 2012, no relevant comments were received. The proposed data collection tools and participant recruitment materials may be found on the AoA Web site: http://www.aoa.gov/AoARoot/Program_Results/ENSP/Index.aspx. ACL estimates the burden of this collection of information as follows 3,750 hours for individuals, 1,672 for local agencies (AAAs and LSPs) and 94.08 hours for State Units on Aging (SUAs) and 463 hours for organizations—Total Burden for Study 5,516.08 hours.

Dated: May 8, 2013.
Kathy Greenlee,
Administrator and Assistant Secretary for Aging.

[FR Doc. 2013-11388 Filed 5-13-13; 8:45 am]

BILLING CODE 4154-01-P